Title 3—

The President

Proclamation 8411 of September 4, 2009

Labor Day, 2009

By the President of the United States of America

A Proclamation

Since our Nation's founding, working Americans have carried us through times of challenge and uncertainty and propelled America through eras of peace and prosperity. They have long formed the backbone of our Nation's economy, and they will continue to lead our Nation to new heights in the years to come.

Working Americans helped lay the foundation for our Nation's progress over the generations. Brick by brick, they built the infrastructure that powered the engine of our economy. With firm resolve and commitment, they constructed our cities and towns, and with unparalleled skill they manufactured the goods and provided the services needed by Americans and people around the world. They have prepared our children for the challenges ahead and cared for the sick and the elderly. Today, we commemorate the many contributions labor has made to our Nation.

Throughout its history, the labor movement has given voice to the aspirations and concerns of millions of men and women. By fighting for decent working conditions, as well as fair wages and benefits, organized labor has stood for the rights of everyday Americans. With determination and commitment, labor has advocated for all working families and all have benefited from the fruits of their struggles.

Today, we find ourselves in an era of great challenges. The economic crisis we face is vast and complex. Americans understand the consequences: dwindling savings for young families, a daunting choice between prescriptions and groceries for our seniors, and fading hopes for a college education for our young people. Just as they have so many times in our history, working Americans will help our Nation emerge from this crisis and lead us into a new era of prosperity and progress.

This Labor Day, as we honor our workers, and we renew our commitment to uphold the American Dream and the founding promise of our Nation: in America, we can make of our lives what we will, and all things are possible for all people.

NOW, THEREFORE, I, BARACK OBAMA, President of the United States of America, by virtue of the authority vested in me by the Constitution and laws of the United States, do hereby proclaim September 7, 2009, as Labor Day. I call upon public officials and all the people of the United States to observe this day with appropriate programs, ceremonies, and activities that acknowledge the tremendous contributions of working Americans and their families.

IN WITNESS WHEREOF, I have hereunto set my hand this fourth day of September, in the year of our Lord two thousand nine, and of the Independence of the United States of America the two hundred and thirty-fourth.

[FR Doc. E9-21988

Filed 9-9-09; 11:15 am]

Billing code 3195-W9-P